DEPARTMENT OF COMMERCE

International Trade Administration

(A-583-008, A-583-814)

Continuation of Antidumping Duty Orders on Certain Circular Welded Carbon Steel Pipes and Tubes from Taiwan, and Circular Welded Non-Alloy Steel Pipe from Taiwan

AGENCY: Import Administration, International Trade Administration, Department of Commerce.

SUMMARY: As a result of the determinations by the Department of Commerce (the Department) and the International Trade Commission (ITC) that revocation of the antidumping duty orders on certain circular welded carbon steel pipes and tubes from Taiwan, and circular welded non-alloy steel pipe from Taiwan, would likely lead to continuation or recurrence of dumping, the Department is publishing notice of continuation of these antidumping duty orders.

EFFECTIVE DATE: August 14, 2006

CONTACT INFORMATION: Martha Douthit or Dana Mermelstein, AD/CVD Operations, Office 6, Import Administration, International Trade Administration, U.S. Department of Commerce, 14th Street and Constitution Avenue, NW, Washington, DC 20230; telephone:(202) 482-5050 or (202) 482-1391, respectively.

SUPPLEMENTARY INFORMATION:

Scope of the Orders

Certain Circular Welded Carbon Steel Pipes and Tubes from Taiwan - (A-583-008)

Imports covered by this antidumping duty order are shipments of certain circular welded carbon steel pipes and tubes. The Department defines such merchandise as welded carbon steel pipes and tubes of circular cross section, with walls not thinner than 0.065 inch and 0.375 inch or more but not over 4 1/2 inches in outside diameter. These products are commonly referred to as “standard pipe” and are produced to various American Society for Testing Materials Specifications, most notably A-53, A-120, or A-135. Standard pipe is currently classified under Harmonized Tariff Schedule of the United States (HTSUS) item numbers 7306.30.5025, 7306.30.5032, 7306.30.5040, and 7306.30.5055. Although the HTSUS subheading is provided for convenience and customs purposes, the written description of the merchandise under this antidumping duty order is dispositive.

Circular Welded Non-Alloy Steel Pipe from Taiwan- (A-583-814)

The products covered by this order are: (1) Circular welded non-alloy steel pipes and tubes, of circular cross-section over 114.3 millimeters (4.5 inches), but not over 406.4 millimeters (16 inches) in outside diameter, with a wall thickness of 1.65 millimeters (0.065 inches) or more, regardless of surface finish (black, galvanized, or painted), or end finish (plain end, bevelled end, threaded, or threaded and coupled); and (2) circular welded non-alloy steel pipes and tubes, of circular cross-section less than 406.4 millimeters (16 inches), with a wall thickness of less than 1.65 millimeters (0.065 inches), regardless of surface finish (black, galvanized, or painted) or end finish (plain end, bevelled end, threaded, or threaded and coupled). These pipes and tubes are generally known as standard pipes and tubes and are intended for the low pressure conveyance of water, steam, natural gas, air, and other liquids and gases in plumbing and heating systems, air conditioning units, automatic sprinkler systems, and other related uses, and generally meet ASTM A-53 specifications. Standard pipe may also be used for light load-bearing applications, such as for fence tubing, and as structural pipe tubing used for framing and support members for construction or load-bearing purposes in the construction, shipbuilding, trucking, farm equipment, and related industries. Unfinished conduit pipe is also included in these orders. All carbon steel pipes and tubes within the physical description outlined above are included within the scope of this order, except line pipe, oil country tubular goods, boiler tubing, mechanical tubing, pipe and tube hollows for redraws, finished scaffolding, and finished conduit. Standard pipe that is dual or triple certified/stenciled that enters the U.S. as line pipe of a kind used for oil and gas pipelines is also not included in this order. Imports of the products covered by this order are currently classifiable under the following Harmonized Tariff Schedule (HTS) subheadings: 7306.30.10.00, 7306.30,50.25, 7306.30.50.32, 7306.30.50.40, 7306.30.50.55, 7306.30.50.85, 7306.30.50.90. Although the HTS subheadings are provided for convenience and customs purposes, our written description of the scope of these proceedings is dispositive.

Background

On July 5, 2005, the Department initiated and the ITC instituted sunset reviews of the antidumping duty orders on certain circular welded carbon steel pipes and tubes from Taiwan, and circular welded non-alloy steel pipe from Taiwan, pursuant to section 751(c) of the Tariff Act of 1930, as amended (“the Act”). See Initiation of Five-Year (“Sunset”) Reviews, 70 FR 38101 (July 1, 2005), and ITC notice of institution on Certain Pipe and Tube From Argentina, Brazil, India, Korea, Mexico, Taiwan, Thailand, and Turkey, 70 FR 38204 (July 1, 2005).

As a result of its review, the Department found that revocation of the antidumping duty orders would likely lead to continuation or recurrence of dumping, and notified the ITC of the magnitude of the margins and likely to prevail were the orders to be revoked. See Certain Circular Welded Carbon Steel Pipes and Tubes from India, Taiwan, Thailand, and Turkey, and Circular Welded Non-Alloy Steel Pipe from Brazil, Republic of Korea, Mexico, and Taiwan: Notice of Final Results of Expedited Five-Year (“Sunset”) Reviews of Antidumping Duty Orders, 70 FR 67662 (November 8, 2005).

On July 25, 2006, the ITC determined, pursuant to section 751(c) of the Act, that revocation of the antidumping duty order on certain circular welded carbon steel pipe from Taiwan, and the antidumping duty order on circular welded non-alloy pipes and tubes from Taiwan, would likely lead to continuation or recurrence of material injury to an industry in the United States within a reasonably foreseeable time. See Certain Pipe and Tube from Argentina, Brazil, India, Korea, Mexico, Taiwan, Thailand, and Turkey, 71 FR 42118 (July 25, 2006) and USITC Publication 3867 (July 2006) (Inv. Nos. 701-TA-253 and 731-TA-132, 252, 271, 409-410, 532-534, and 536) (Second Review)).

As a result of the determinations by the Department and the ITC that revocation of these antidumping duty orders would likely lead to continuation or recurrence of dumping, pursuant to section 751(d)(2) of the Act, the Department hereby orders the continuation of the antidumping duty orders on certain circular welded carbon steel pipes and tubes from Taiwan (A-583-008) and circular welded non-alloy pipe from Taiwan (A-583-814).

U.S. Customs and Border Protection will continue to collect antidumping duty cash deposits at the rates in effect at the time of entry for all imports of subject merchandise.

The effective date of continuation of these orders will be the date of publication in the Federal Register of this Notice of Continuation. Pursuant to sections 751(c)(2) and 751(c)(6)(A) of the Act, the Department intends to initiate the next five-year reviews of these orders not later than July 2011.

These five-year (sunset) reviews and notice are in accordance with section 751(c) of the Act and published pursuant to section 777(i)(1) of the Act.

Dated: August 7, 2006.
Joseph A. Spetrini,
Acting Assistant Secretary for Import Administration.

[FR Doc. E6-13272 Filed 8-11-06; 8:45 am]

BILLING CODE: 3510-DS-S